COMMITTEE FOR THE IMPLEMENTATION OF TEXTILE AGREEMENTS

Establishment of Agreed Import Levels for Certain Cotton, Wool, Man-Made Fiber, Silk Blend and Other Vegetable Fiber Textiles and Textile Products Produced or Manufactured in the People's Republic of China; Correction

November 2, 2006.

In the letter to the Commissioner, Bureau of Customs and Border Protection published in the Federal Register on October 27, 2006 (71 FR 62999), on page 62999, in Column 3, in the table listing restraint levels, please change “Restraint Period” to “Restraint Level” and change the limit for Category 222 from “18,631,460 kilograms” to “18,361,460.” A letter has been sent to the Commissioner, Bureau of Customs and Border Protection to make the same changes.

Philip J. Martello,
Acting Chairman, Committee for the Implementation of Textile Agreements.

[FR Doc. E6-18765 Filed 11-6-06; 8:45 am]

BILLING CODE 3510-DS